DEPARTMENT OF COMMERCE

Submission for OMB Review; Comment Request

DOC has Submitted to the Office of Management and Budget (OMB) for Clearance the Following Proposal for Collection of Information Under the Provisions of the Paperwork Reduction Act (44 U.S.C. Chapter 35).

AGENCY: U.S. Census Bureau.

Title: Current Industrial Reports (CIR) Program, Wave II. Collections.

Form Number(s): M311J, M313N, M313P, M327G, M331J, MQ311A, MQ314X, MQ315A, MQ325A, MQ325C, MQ325F, MQ333W, MQ335C, MA313F, MA313K, MA314Q, MA316A, MA321T, MA325G, MA333L, MA333P, MA334M, MA334Q, MA334S, MA335E, and MA335J.

Agency Approval Number: 0607-0395.

Type of Request: Revision of a currently approved collection.

Burden: 14,991 hours.

Number of Respondents: 12,030.

Avg Hours Per Response: 38 minutes.

Needs and Uses: The U.S. Census Bureau is requesting an extension of the mandatory and voluntary surveys in Wave II of the Current Industrial Reports (CIR) program. The Census Bureau conducts a series of monthly, quarterly, and annual surveys as part of the CIR program. The CIR program focuses primarily on the quantity and value of shipments of particular products and occasionally with data on production and inventories; unfilled orders, receipts, stocks and consumption; and comparative data on domestic production, exports, and imports of the products they cover.

Due to the large number of surveys in the CIR program, for clearance purposes, the CIR surveys are divided into “waves.” One wave is resubmitted for clearance each year. Mandatory and voluntary surveys historically have been divided into separate clearance requests, making two separate clearance requests each year and six clearance requests in total for the CIR program. We are now combining the mandatory and voluntary surveys of each wave into one clearance request, reducing the total number of clearance requests from six to three, and the number of OMB submissions annually from two to one. Therefore, we are incorporating the burden hours currently contained in 0607-0206 into this request and discontinuing that clearance.

Primary users of these data are government agencies, business firms, trade associations, and private research and consulting organizations. The Federal Reserve Board uses CIR data in its monthly index of industrial production as well as its annual revision to the index. The Bureau of Economic Analysis (BEA) and the Bureau of Labor Statistics (BLS) use the CIR data in the estimate of components of gross domestic product (GDP) and the estimate of output for productivity analysis, respectively. Many government agencies, such as the International Trade Commission, Department of Agriculture, Food and Drug Administration, Department of Energy, Federal Aviation Administration, BEA, and International Trade Administration use the data for industrial analysis, projections, and monitoring import penetration. Private business firms and organizations use the data for trend projections, market analysis, product planning, and other economic and business-oriented analysis. Since the CIR program is the sole, consistent source of information regarding specific manufactured products in the intercensal years, the absence thereof would severely hinder the Federal Government's ability to measure and monitor important segments of the domestic economy, as well as the effect of import penetration.

Affected Public: Business or other for-profit.

Frequency: Monthly, quarterly, and annually.

Respondent's Obligation: Monthly and quarterly CIRs are typically voluntary. Annual reports are mandatory.

Legal Authority: Title 13 U.S.C. 61, 81, 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: June 28, 2004.
Madeleine Clayton,
Management Analyst, Office of the Chief Information Officer.

[FR Doc. 04-15008 Filed 7-1-04; 8:45 am]

BILLING CODE 3510-07-P